DEPARTMENT OF COMMERCE

International Trade Administration

[C-570-046]

1-Hydroxyethylidene-1,1-Diphoshonic Acid From the People's Republic of China: Notice of Correction to the Rescission of 2016-2017 Countervailing Duty Administrative Review

AGENCY: Enforcement and Compliance, International Trade Administration, Department of Commerce

FOR FURTHER INFORMATION CONTACT: Annathea Cook, AD/CVD Operations, Office V, Enforcement and Compliance, International Trade Administration, U.S. Department of Commerce, 1401 Constitution Avenue NW, Washington, DC 20230; telephone 202.482.0250.

SUPPLEMENTARY INFORMATION:

Correction

On February 1, 2019, the Department of Commerce (Commerce) published the rescission of 2016-2018 countervailing duty (CVD) administrative review of 1-Hydroxyethylidene-1,1-Diphoshonic Acid (HEDP) from the People's Republic of China (China).¹ The Rescission inadvertently identified the incorrect period of review (POR) associated with the CVD administrative review on HEDP from China (i.e., incorrect POR November 14, 2016, through April 30, 2018). The correct POR associated with the CVD order on HEDP from China is September 8, 2016, through December 31, 2017. This notice serves as a correction notice.

¹ See 1-Hydroxyethylidene-1,1-Diphoshonic Acid from the People's Republic of China: Rescission of 2016-2018 Countervailing Duty Administrative Review, 84 FR 1060 (February 1, 2019) (Rescission).

This correction is published in accordance with sections 751 and 777(i) of the Tariff Act of 1930, as amended.

Dated: February 7, 2019.
James Maeder,
Associate Deputy Assistant Secretary for Antidumping and Countervailing Duty Operations performing the duties of Deputy Assistant Secretary for Antidumping and Countervailing Duty Operations.

[FR Doc. 2019-02176 Filed 2-12-19; 8:45 am]

BILLING CODE 3510-DS-P